Title 3—

The President

Proclamation 8250 of April 30, 2008

Law Day, U.S.A., 2008

By the President of the United States of America

A Proclamation

The right of ordinary men and women to determine their own future, protected by the rule of law, lies at the heart of America's founding principles. As our country celebrates the 50th anniversary of Law Day, we renew our commitment to the ideals on which this great Nation was established and to a robust system of ordered liberty.

The American legal system is central to protecting the rights and freedoms our Nation holds dear. The theme of this year's Law Day, “The Rule of Law: Foundation for Communities of Opportunity and Equity,” recognizes the fundamental role that the rule of law plays in preserving liberty in our Nation and in all free societies. We pay tribute to the men and women in America's legal community. Through hard work and dedication to the rule of law, members of the judiciary and the legal profession help secure the rights of individuals, bring justice to our communities, and reinforce the proud traditions that make America a beacon of light for the world.

Nearly 800 years ago, the Magna Carta placed the authority of government under the rule of law; centuries later, the Declaration of Independence and the United States Constitution marked tremendous advances in the march of liberty. These documents established enduring principles that guide modern democracies. Today, we are reminded of that past and look toward a hopeful future as we work to secure the liberty that is the natural right of every man, woman, and child.

On Law Day, U.S.A., our Nation celebrates our belief in the equality of each person before God and renews our commitment to strive to bring America ever closer to its founding ideals.

NOW, THEREFORE, I, GEORGE W. BUSH, President of the United States of America, in accordance with Public Law 87-20, as amended, do hereby proclaim May 1, 2008, as Law Day, U.S.A. I call upon all the people of the United States to observe this day with appropriate ceremonies and activities. I also call upon Government officials to display the flag of the United States in support of this national observance.

IN WITNESS WHEREOF, I have hereunto set my hand this thirtieth day of April, in the year of our Lord two thousand eight, and of the Independence of the United States of America the two hundred and thirty-second.

[FR Doc. 08-1223

Filed 5-2-08; 8:57 am]

Billing code 3195-01-P